DEPARTMENT OF COMMERCE

International Trade Administration

[A-570-001]

Continuation of Antidumping Duty Order; Potassium Permanganate from the People's Republic of China

AGENCY: Import Administration, International Trade Administration, Department of Commerce.

SUMMARY: As a result of the determinations by the Department of Commerce (“the Department”) and the International Trade Commission (“ITC”) that revocation of the antidumping duty order on potassium permanganate from the People's Republic of China (“China”) would likely lead to continuation or recurrence of dumping, and material injury to an industry in the United States, the Department is publishing notice of the continuation of this antidumping duty order.

EFFECTIVE DATE: June 21, 2005.

FOR FURTHER INFORMATION CONTACT: Martha V. Douthit or Dana Mermelstein, AD/CVD Operations, Office 6, Import Administration, International Trade Administration, U.S. Department of Commerce, 14th Street and Constitution Avenue, NW, Washington, DC 20230; telephone: (202) 482-5050 or (202) 482-1391, respectively.

SUPPLEMENTARY INFORMATION:

Background

On October 1, 2004, the Department initiated and the ITC instituted a sunset review of the antidumping duty order on potassium permanganate from China, pursuant to section 751(c) of the Tariff Act of 1930, as amended (“the Act”).¹ As a result of its review, the Department found that revocation of the antidumping duty order would likely lead to continuation or recurrence of dumping and notified the ITC of the magnitude of the margins likely to prevail were the order to be revoked.² On June 2, 2005, the ITC determined, pursuant to section 751(c) of the Act, that revocation of the antidumping duty order on potassium permanganate from China would likely lead to continuation or recurrence of material injury to an industry in the United States within a reasonably foreseeable time.³

¹ See Initiation of Five-year (“Sunset”) Reviews, 69 FR 58890 (October 1, 2004), and ITC Investigation No.731-TA-125 (Second Review), 69 FR 58955 (October 1, 2004).

² See Potassium Permanganate from the People's Republic of China; Five Year (“Sunset”) Review of Antidumping Duty Order: Final Results, 70 FR 24520 (May 10, 2005).

³ See Investigation No. 731-TA-125 (Second Review), 70 FR 32372 (June 2, 2005).

Scope of the Order

Imports covered by this antidumping duty order are shipments of potassium permanganate, an inorganic chemical produced in free-flowing, technical, and pharmaceutical grades. Potassium permanganate is currently classifiable under item 2841.61.00 of the Harmonized Tariff Schedule (HTS). The HTS item number is provided for convenience and customs purposes; however, the written description remains dispositive.

Determination

As a result of the determinations by the Department and the ITC that revocation of this antidumping duty order would likely lead to continuation or recurrence of dumping and material injury to an industry in the United States, pursuant to section 751(d)(2) of the Act, the Department hereby orders the continuation of the antidumping duty order on potassium permanganate from China.

U.S. Customs and Border Protection will continue to collect antidumping duty deposits at the rates in effect at the time of entry for all imports of subject merchandise. The effective date of continuation of this order will be the date of publication in the Federal Register of this Notice of Continuation. Pursuant to section 751(c)(2) and 751(c)(6)(A) of the Act, the Department intends to initiate the next five-year review of this order not later than May 2010.

This five-year (sunset) review and notice are in accordance with section 751(c) of the Act.

Dated: June 9, 2005.
Joseph A. Spetrini,
Acting Assistant Secretary for Import Administration.

[FR Doc. E5-3210 Filed 6-20-05; 8:45 am]

BILLING CODE 3510-DS-S